DEPARTMENT OF HEALTH AND HUMAN SERVICES

National Institutes of Health

National Heart, Lung, and Blood Institute; Amended Notice of Meeting

Notice is hereby given of a change in the meeting of the National Heart, Lung, and Blood Advisory Council, June 11, 2025, 9:30 a.m. to June 11, 2025, 5:00 p.m., Porter Neuroscience Research Center, Building 35A, Bethesda, MD 20892 which was published in the Federal Register on May 19, 2025, 90 FRN 21324.

The National Heart, Lung, and Blood Advisory Council open meeting is being amended due to a change of the meeting start and end time. The meeting will start at 9:30 a.m. and end at 5:00 p.m. The meeting is partially Closed to the public.

Dated: May 29, 2025.
Bruce A. George,
Program Analyst, Office of Federal Advisory Committee Policy.

[FR Doc. 2025-10078 Filed 6-2-25; 8:45 am]

BILLING CODE 4140-01-P